LIBRARY OF CONGRESS

Copyright Office

[Docket No. 2001-7 CARP SD 2000]

Ascertainment of Controversy for the 2000 Satellite Royalty Funds

AGENCY: Copyright Office, Library of Congress.

ACTION: Request for notices of intention to participate.

SUMMARY: The Copyright Office of the Library of Congress directs all claimants to royalty fees collected under the section 119 statutory license in 2000 to submit comments as to whether a Phase I or a Phase II controversy exists as to the distribution of these fees, and a Notice of Intention to Participate in a royalty distribution proceeding. Parties who submit a Notice of Intention to Participate may also submit comments on the Public Broadcasting Service's motion for a partial distribution and the scheduling of a CARP proceeding.

DATES: Comments and Notices of Intention to Participate are due no later than February 1, 2002.

ADDRESSES: If sent by mail, an original and five copies of written comments should be addressed to: Copyright Arbitration Royalty Panel (CARP), P.O. Box 70977, Southwest Station, Washington, DC 20024. If hand delivered, an original and five copies should be brought to: Office of the General Counsel, James Madison Memorial Building, Room 403, First and Independence Avenue, SE., Washington, DC 20540.

FOR FURTHER INFORMATION CONTACT: David O. Carson, General Counsel, or William J. Roberts, Jr., Senior Attorney for Compulsory Licenses, Copyright Arbitration Royalty Panels, P.O. Box 70977, Southwest Station, Washington, D.C. 20024. Telephone (202) 707-8380. Telefax: (202) 252-3423.

SUPPLEMENTARY INFORMATION: Each year satellite carriers submit royalties to the Copyright Office for the retransmission of over-the-air broadcast signals to their subscribers. 17 U.S.C. 119. These royalties are, in turn, distributed to copyright owners whose works were included in a retransmission of an over-the-air broadcast signal and for whom a claim for royalties was timely filed with the Copyright Office. The copyright owners may either negotiate the terms of a settlement as to the division of the royalty fees, or the Librarian of Congress may convene a Copyright Arbitration Royalty Panel (“CARP”) to determine the distribution of the royalty fees that remain in controversy. See 17 U.S.C. chapter 8.

On October 30, 2001, the Library of Congress published a Notice in the Federal Register requesting comments from interested parties as to the existence of controversies over the distribution of 2000 satellite royalty fees collected under 17 U.S.C. 119; 66 FR 54789 (October 30, 2001). The Library requested that interested parties submit their comments, along with Notices of Intention to Participate in the 2000 distribution proceeding, by November 29, 2001. In addition, the Library sought comment on a petition for royalty distribution filed by the Public Broadcasting Service (“PBS”), seeking collection of 2000 and 2001 royalties submitted under 17 U.S.C. 119(b) for the satellite feed.

On November 6, 2001, the Motion Picture Association of America, Inc. (“MPAA”) filed a motion seeking an extension of the November 29, 2001, deadline to January 15, 2002. MPAA asserted that it could not submit its Notice of Intention to Participate until it had an opportunity to examine the list of claimants who had filed for the 2000 satellite funds. This list was not made available to the public until early December. Consequently, in response to the MPAA motion, the Office suspended the November 29, 2001, date for filing comments and Notices of Intention to Participate and requested comments on MPAA's motion. See 66 FR 58761 (November 23, 2001).

Three parties filed comments in response to this notice: the Public Broadcasting Service, the MPAA, and the Joint Sports Claimants (“JSC”). In its comment, JSC stated that it was prepared to file its Notices of Intention to Participate at any time and provided additional comment on the scheduling of the proceeding. Similarly, PBS had no apparent objection to the MPAA request but it did ask that the date for filing the requisite notices not be extended beyond the January 15, 2002 date identified by MPAA in its motion and that the PBS motion for a distribution of the disputed funds be expedited upon the filing of the notices.

MPAA, for its part, acknowledged that with the release of the 2000 satellite claimant list it was now able to prepare its Notice of Intention to Participate. However, it argued that the Office should give the parties a minimum of 30-45 days after the release of the list to prepare and file the notices and suggested January 25, 2002, as an appropriate date for filing the Notices of Intention. MPAA also offered comments on scheduling.¹

¹ MPAA's and JSC's comments on scheduling were unsolicited and beyond the scope of the November 23, 2001 notice and, thus, will not be considered at this time.

Notices of Intention to Participate. Since the Notices of Intention to Participate must list the name of each copyright owner on whose behalf the notice is being filed, the Office agrees that interested parties should have adequate time to review the official list of satellite claimants for 2000 before being required to file a Notice of Intention to Participate in a proceeding concerning the distribution of the 2000 satellite royalty fees. Moreover, interested parties must have adequate notice of the date for filing such notices. Consequently, the Office is setting a later date for filing a Notice of Intention to Participate in a proceeding to decide the distribution of the 2000 satellite royalty fees than that requested in the MPAA comment. Notices of Intention to Participate in such a proceeding shall be due no later than February 1, 2002.

Section 251.45(a) of title 37 of the Code of Federal Regulations requires that parties file a Notice of Intention to Participate in a CARP proceeding, but it does not prescribe the contents of the notice. The Office, however, has addressed the issue of what constitutes a sufficient Notice and to whom it is applicable. See Orders in Docket No. 2000-2 CARP CD 93-97 (June 22, 2000, and August 1, 2000); see also 65 FR 54077 (Sept. 6, 2000). In light of these rulings, the Office advises those parties filing Notices of Intention to Participate in this proceeding to comply with the following instructions.

Each claimant that has a dispute over the distribution of the 2000 satellite royalty fees, either at Phase I or Phase II, shall file a Notice of Intention to Participate that contains the following: (1) The claimant's full name, address, telephone number, and facsimile number (if any); (2) identification of whether the Notice covers a Phase I proceeding, a Phase II proceeding, or both; and (3) a statement of the claimant's intention to fully participate in a CARP proceeding.

Claimants may, in lieu of individual Notices of Intention to Participate, submit joint Notices. In lieu of the requirement that the Notice contain the claimant's name, address, telephone number and facsimile number, a joint Notice shall provide the full name, address, telephone number, and facsimile number (if any) of the person filing the Notice and it shall contain a list identifying all the claimants that are parties to the joint Notice. In addition, if the joint Notice is filed by counsel or a representative of one or more of the claimants identified in the joint Notice, the joint Notice shall contain a statement from such counsel or representative certifying that, as of the date of submission of the joint Notice, such counsel or representative has the authority and consent of the claimants to represent them in the CARP proceeding.

Motion of Public Broadcasting Service for Distribution of PBS National Satellite Feed Royalty Funds for Calendar Years 2000 and 2001. On June 21, 2001, PBS filed a motion for distribution of PBS national satellite feed royalty fees for calendar years 2000 and 2001 and sent a copy of the motion to those entities that have participated in past satellite distribution proceedings. In an earlier notice, the Office determined that, as a matter of law, consideration of a distribution of the 2001 satellite royalty fees was premature. See 66 FR 54789 (October 30, 2001). Consequently, the Office stated that it would consider the PBS motion only so far as it concerns the distribution of the 2000 satellite royalty fees and only after all interested parties have been identified by filing the Notices of Intention requested herein and such parties have had an opportunity to respond to the motion. Id.

Parties who file Notices of Intention to Participate in this proceeding in accordance with this notice may, at this time, file comments on the PBS motion. The Copyright Office has posted the PBS motion for distribution of PBS national satellite feed royalty funds for 2000-2001 on the Copyright Office website at: (http://www.loc.gov/copyright/carp/pbsmotion.pdf). The motion is also available for copying in the Office of the General Counsel along with any additional responsive filings that have been filed in the Office of the General Counsel.

Comments on the Existence of Controversies. Before commencing a distribution proceeding or making a partial distribution, the Librarian of Congress must first ascertain whether a controversy exists as to the distribution of the royalty fees and the extent of those controversies. 17 U.S.C. 803(d). Therefore, any comments filed in response to the PBS motion as to the distribution of the 2000 satellite fees must address the existence and extent of any controversies at Phase I and Phase II.

In Phase I of a satellite royalty distribution, royalties are distributed to certain categories of broadcast programming that have been retransmitted by satellite carriers. The categories have traditionally been syndicated programming and movies, sports, commercial and noncommercial broadcaster-owned programming, religious programming, and music programming. The Office seeks comments as to controversies between these categories for royalty distribution.

In Phase II of a satellite royalty distribution, royalties are distributed to claimants within a program category. If a claimant anticipates a Phase II controversy, the claimant must state each program category in which he or she has an interest that has not, by the end of the comment period, been satisfied through a settlement agreement.

The Copyright Office must be advised of the existence and extent of all Phase I and Phase II controversies by the end of the comment period. It will not consider any controversies that come to its attention after the close of that period.

Schedule of CARP proceeding. Outstanding controversies concerning the distribution of 1996, 1997, 1998, and 1999 satellite royalty fees still remain. Before setting a schedule for a CARP proceeding to resolve any controversies over the distribution of the 2000 satellite royalty fees at issue in the PBS motion, the Office must first decide whether to resolve the remaining controversies in the preceding years or set these aside and focus on the distribution of the 2000 satellite royalty fees as requested by PBS. Therefore, the Office invites comments from all interested parties on whether to continue to conduct distribution proceedings in a sequential manner as has been the practice historically or to set aside the unresolved controversies in the earlier years and proceed immediately to the controversies surrounding the 2000 satellite royalty fees.

Dated: January 16, 2002.
David O. Carson,
General Counsel.

[FR Doc. 02-1543 Filed 1-18-02; 8:45 am]

BILLING CODE 1410-33-P